DEPARTMENT OF COMMERCE

International Trade Administration

[A-580-880]

Heavy Walled Rectangular Welded Carbon Steel Pipes and Tubes From the Republic of Korea: Rescission of Antidumping Duty Administrative Review; 2018-2019, in Part

AGENCY: Enforcement and Compliance, International Trade Administration, Department of Commerce.

SUMMARY: On November 12, 2019, the Department of Commerce (Commerce) initiated an administrative review on heavy walled rectangular welded carbon steel pipes and tubes from the Republic of Korea (Korea) for the period September 1, 2018 through August 31, 2019, for 22 companies. Because interested parties timely withdrew their requests for administrative review for certain companies, we are rescinding this administrative review with respect to those companies. For a list of the companies for which we are rescinding this review, see Appendix I to this notice. For a list of the companies for which the review is continuing, see Appendix II to this notice.

DATES: Applicable March 20, 2020.

FOR FURTHER INFORMATION CONTACT: Alice Maldonado or Whitley Herndon, AD/CVD Operations, Office II, Enforcement and Compliance, International Trade Administration, U.S. Department of Commerce, 1401 Constitution Avenue NW, Washington, DC 20230; telephone: (202) 482-4682 or (202) 482-6274, respectively.

Background

On September 3, 2019, Commerce published in the Federal Register a notice of opportunity to request an administrative review of the antidumping duty order on heavy walled rectangular welded carbon steel pipes and tubes from Korea for the period September 1, 2018 through August 31, 2019.¹ In September 2019, Commerce received timely requests, in accordance with section 751(a) of the Tariff Act of 1930, as amended (the Act), to conduct an administrative review of this antidumping duty order from Independence Tube Corporation and Southland Tube Incorporated, collectively Nucor Pipe Mills (the petitioner), HiSteel Co., Ltd., Dong-A Steel Co., Ltd., and Kukje Steel Co., Ltd.. Based upon these requests, on November 12, 2019, in accordance with section 751(a) of the Act, Commerce published in the Federal Register a notice of initiation listing 22 companies for which Commerce received timely requests for review.²

¹ See Antidumping or Countervailing Duty Order, Finding, or Suspended Investigation; Opportunity to Request Administrative Review, 84 FR 45949 (September 3, 2019).

² See Initiation of Antidumping and Countervailing Duty Administrative Reviews, 84 FR 61011 (November 12, 2019) (Initiation Notice).

In February 2020, all interested parties timely withdrew their request for an administrative review of certain companies.³ These companies are listed in Appendix I.

³ See Petitioner's Letter, “Heavy Walled Rectangular Welded Carbon Steel Pipes and Tubes from the Republic of Korea: Partial Withdrawal of Request for Administrative Review,” dated February 10, 2020.

Partial Rescission

Pursuant to 19 CFR 351.213(d)(1), the Secretary will rescind an administrative review, in whole or in part, if a party who requested the review withdraws the request within 90 days of the date of publication of notice of initiation of the requested review. As noted above, certain parties withdrew their requests for review by the 90-day deadline. Accordingly, we are rescinding this administrative review with respect to the companies listed in Appendix I.⁴

⁴ We note that although we are rescinding on the companies listed in Appendix I, these companies may still be subject to this administrative review if we find them to be an affiliate of any of the mandatory respondents in this review listed in Appendix II.

Assessment

Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Commerce intends to issue appropriate assessment instructions to CBP 15 days after publication of this notice in the Federal Register.

Notification to Importers

This notice serves as a reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305. Timely written notification of the return/destruction of APO materials or conversion to judicial protective order is hereby requested. Failure to comply with the regulations and terms of an APO is a violation which is subject to sanction.

Notification to Interested Parties

This notice is issued and published in accordance with section 751(a)(1) of the Act and 19 CFR 351.213(d)(4).

Dated: March 16, 2020.
James Maeder,
Deputy Assistant Secretary for Antidumping and Countervailing Duty Operations.

Appendix I

Ahshin Pipe & Tube Company

Bookook Steel Co., Ltd.

Dongbu Steel Co., Ltd.

G.S. ACE Industry Co., Ltd.

Ganungol Industries Co., Ltd.

Hanjin Steel Pipe

Husteel Co., Ltd.

Hyosung Corporation

Hyundai Steel Co.

Hyundai Steel Pipe Company

K Steel Co., Ltd.

Miju Steel Manufacturing Co., Ltd.

NEXTEEL Co., Ltd.

POSCO DAEWOO

Sam Kang Industrial Co., Ltd.

Samson Controls Ltd., Co.

SeAH Steel Corporation

Shin Steel Co., Ltd.

Yujin Steel Industry Co. Ltd.

Appendix II

Dong-A Steel Co., Ltd.

HiSteel Co., Ltd.

Kukje Steel Co., Ltd.

[FR Doc. 2020-05812 Filed 3-19-20; 8:45 am]

BILLING CODE 3510-DS-P